NUCLEAR REGULATORY COMMISSION

[Docket No. 040-08778]

Finding of No Significant Impact Related to Amendment of Source Materials License SMB-1393 Molycorp. Inc., Washington, PA, Facility

The U.S. Nuclear Regulatory Commission (NRC) is considering issuing an amendment to Source Materials License No. SMB-1393 issued to Molycorp, Inc. (Molycorp or licensee), to authorize decommissioning of its facility in Washington, Pennsylvania. In preparation for cleanup of the site, Molycorp submitted its initial decommissioning plan (DP) to the NRC in July 1995. The DP has been supplemented twice: (1) First on June 30, 1999, (DP Part 1) to reflect the licensee's intent to decommission a portion of the site using cleanup criteria contained in NRC's “Action Plan to Ensure Timely Cleanup of Site Decommissioning Management Plan Sites” (SDMP Action Plan) (57 Federal Register 13389); and (2) on July 14, 2000, (DP part 2) for that portion of the site intended to meet the requirements of the License Termination Rule (LTR) in 10 CFR part 20, Subpart E, “Radiological Criteria for License Termination,” published in July 1997 (62 Federal Register 39057).

Environmental Assessment Summary

This Environmental Assessment (EA) addresses only the part 1 decommissioning. Part 2 will be the subject of a separate evaluation. Under the Part 1 DP (hereafter, decommissioning plan) Molycorp, Inc., will remediate contaminated soils on the main facility grounds and at a separate location where slag materials have been concentrated by past operations (i.e., slag pile) to unrestricted release levels. The decision to dispose of the materials on site will be addressed in part 2.

This EA reviews the environmental impacts of the decommissioning actions proposed by Molycorp, Inc. in the decommissioning plan (part 1) for its facility located in Washington, Pennsylvania. In connection with the review of plans for the proposed action, NRC staff is preparing a safety evaluation report (SER), that evaluates compliance of the proposed action with NRC regulations. On issuance, the SER will be available in NRC's Electronic Reading Room, on NRC's Web site http://www.nrc.gov/adams/index.html.

Proposed Action

The decommissioning activities proposed by Molycorp include:

• Identify the location, depth, and thickness of areas containing greater than 10 picoCuries per gram (0.37 Becquerels per gram) total thorium.

• Mobilize equipment, set up decontamination facilities, and implement erosion control measures in preparation for excavation activities.

• Survey the site area to establish spatial coordinates of contaminated areas identified from site characterization radiological surveys.

• Excavate clean overburden and stockpile onsite.

• Excavate all soil and slag containing average contamination levels in excess of the unrestricted use criteria.

• Stockpile excavated material in preparation for loading onto transports. Stockpiling duration is estimated at two weeks. Excavation and stockpiling of waste will not occur until NRC has approved a disposal location for the waste.

• Sample excavated material to be transported consistent with requirements of the NRC-approved disposal location.

• Transporting the material containing average contamination levels in excess of the unrestricted use criteria to a NRC-approved location.

• Conduct final surveys on excavated areas to demonstrate compliance with the unrestricted use limits.

• Survey the stockpiled clean overburden.

• Backfill excavated areas that meet the unrestricted use criteria with the clean overburden.

Need for Proposed Action

The proposed action is necessary to allow Molycorp to remove radioactive material attributable to licensed operations, to levels that permit unrestricted-use of that portion of the site.

Environmental Impacts of the Proposed Action

NRC staff reviewed the levels of contamination, the proposed remediation and decommissioning methods, and the radiological release criteria that will be used during the remediation. The radiological criteria are specified so that decommissioning activities will meet the 10 CFR Part 20 radiation protection requirements. Worker and public doses will be limited so that exposures will not exceed Part 20 requirements and are as low as is reasonably achievable.

Molycorp will perform remediation to achieve the unrestricted release criteria approved by the Commission in the SDMP Action Plan and will transport radioactive waste to a NRC-approved disposal facility.

The EA include: a description of the facility and its operating history; a description of the radiological status of the facility; an evaluation of the proposed methods for decontamination and dismantlement of structures, buildings, and equipment; an evaluation of the proposed methods for decontamination of outdoor areas; a review of the licensee's radiation protection program; and a summary of the radiological release criteria.

The EA assesses radiological impacts to: workers from planned decommissioning activities; members of the public from planned decommissioning activities; and workers and members of the public from transportation of low-level radioactive waste. The EA also includes a radiological accident analysis.

Non-radiological impacts addressed in the EA include: non-radiological releases; economic impact; transportation; air quality; noise; environmental justice; and endangered species.

Alternatives to the Proposed Action

The following alternatives, and the associated impacts and conclusions, are discussed in the EA:

—No action

—Proposed action

—On-site disposal at the Washington, Pennsylvania site

—On-site storage of the excavated soil at the Washington, Pennsylvania, site

Conclusions

Based on the NRC staff evaluation of the Part 1 DP for the Washington, Pennsylvania, facility, as documented in the EA, the staff has determined that the proposed decommissioning can be accomplished in compliance with NRC's public and occupational dose limits, effluent release limits, and residual radioactive material limits. In addition, the approval of the decommissioning plan will not result in a significant adverse impact on the public health and safety or the environment.

Agencies and Individuals Contacted

NRC staff consulted with the Pennsylvania Department of Environmental Protection (PADEP) in the preparation of this EA. PADEP provided comments on the draft EA in a letter dated July 14, 2000. NRC responded to these comments on July 27, 2000. The final EA reflects the staff's resolution as documented in its July 27, 2000, response. In addition, the Pennsylvania Bureau of Wildlife Management of the Pennsylvania Game Commission was consulted and noted that no endangered species have been documented as occurring on or near the site. Similarly, the National Register of Historic Places was consulted and indicated that no historic properties are listed for the Molycorp, Inc., Washington site. Also, the Pennsylvania Historical and Museum Commission indicated there are no archeological sites of significance in the facility area.

Finding of No Significant Impact

Based upon the analysis documented in the EA, the Commission concludes that the proposed action will not have a significant impact on the quality of the human environment. Accordingly, the Commission has determined not to prepare an environmental impact statement for the proposed action.

Additional Information

The EA is available for review at NRC's Electronic Reading Room, on the NRC's Web site at http://www.nrc.gov/adams/index.html. The accession [file] number for this document is ML003735909. The NRC Project Manager for this action is Mr. LeRoy Person. Mr. Person can be reached at (301) 415-6701.

Dated at Rockville, Maryland, this 2nd day of August 2000.
For the Nuclear Regulaatory Commission.
Larry W. Camper,
Chief, Decommissioning Branch, Division of Waste Management, Office of Nuclear Material Safety and Safeguards.

[FR Doc. 00-20013 Filed 8-7-00; 8:45 am]

BILLING CODE 7590-01-P